DEPARTMENT OF AGRICULTURE

Animal and Plant Health Inspection Service

[Docket No. 99-069-1]

Public Meeting; Animal Care

AGENCY: Animal and Plant Health Inspection Service, USDA.

ACTION: Notice of public meeting.

SUMMARY: The Animal and Plant Health Inspection Service plans to hold a public meeting to discuss issues related to the humane care and treatment of exhibition animals regulated under the Animal Welfare Act.

DATES: The public meeting will be held on Tuesday, March 7, 2000, beginning at 8:30 a.m. and ending at 5p.m. On-site registration and sign-in for preregistered participants will take place from 7 a.m. to 8:30 a.m.

ADDRESSES: The public meeting will be held at the USDA Conference Center, 4700 River Road, Riverdale, MD.

FOR FURTHER INFORMATION CONTACT: Animal Care, APHIS, 4700 River Road Unit 84, Riverdale, MD 20737-1234; (301) 734-7833.

SUPPLEMENTARY INFORMATION: The Animal and Plant Health Inspection Service (APHIS) will hold a public meeting in Riverdale, MD, on March 7, 2000, to exchange information with the public about the humane care and treatment of exhibition animals regulated under the Animal Welfare Act. The meeting will include a general session followed by four workshops to run concurrently. The workshops will be offered twice, based on the public's response, to allow for increased participation. The tentative agenda for the public meeting is as follows:

8:30 a.m.-10 a.m.—General Session

10 a.m.-10:30 a.m.—Break

10:30 a.m.-12:30 p.m.—Workshops Session I

12:30 p.m.-1:30 p.m.—Lunch Break

1:30 p.m.-3:30 p.m.—Workshops Session II

3:30 p.m.-4 p.m.—Break

4 p.m.-5 p.m.—General Session/Wrap-up

The morning general session will include updates by U.S. Department of Agriculture (USDA) officials on current Animal Welfare Act issues and program initiatives focusing on, but not limited to, exhibition animal issues. Time will be allotted during the morning general session for open dialogue between USDA and the public. We are tentatively scheduling the following workshop topics:

1. Zoos

2. Circuses

3. Dealers, Research, and Transportation

4. Training and Handling of Potentially Dangerous Animals

Animal Care personnel will present information on issues related to the workshop topics and allow for discussion with the public led by an APHIS facilitator.

Workshop Issues

You may submit issues that you want presented by Animal Care during the workshops. Please specify the issue and the related workshop topic and submit no later than February 15, 2000, to Animal Care, Attention: Public Meeting, APHIS, 4700 River Road Unit 84, Riverdale, MD 20737-1234; or by fax at either (301) 734-4978 or (301) 734-4993.

Advance Registration

Advance registration is requested by February 29, 2000. Although advance registration is not required, attendance may be limited based on public response and conference center accommodations. There is no registration fee.

An advance registration form is printed below. Alternatively, an advance registration form is available via the Internet on Animal Care's home page at http://www.aphis.usda.gov/ac. Please fill out the form completely and submit it either by mail to Animal Care, Attention: Public Meeting, APHIS, 4700 River Road Unit 84, Riverdale, MD 20737-1234; or by fax at either (301) 734-4978 or (301) 734-4993.

If you have any questions about registration, contact Sue Gallagher, Program Specialist, Animal Care, on (301) 734-8877.

To:

No. of pages:

Date:

Advance Registration Form

Animal Care Public Meeting

March 7, 2000; 8:30 a.m.-5:00 p.m., 4700 River Road, Riverdale, MD 20737

Advance registration requested by February 29, 2000 (no fee required)

Name:

Organization:

Address:

Phone:

Fax:

Please indicate the workshop you plan to attend during each workshops session (topics are subject to change):

10:30 a.m.-12:30 p.m.

—Zoos

—Circuses

—Dealers, Research, and Transportation

—Training and Handling of Potentially Dangerous Animals

1:30 p.m.-3:30 p.m.

—Zoos

—Circuses

—Dealers, Research, and Transportation

—Training and Handling of Potentially Dangerous Animals

Please either:

• Fax completed registration form to (301) 734-4978 or (301) 734-4993, or

• Mail completed registration form to Animal Care, Attn: Public Meeting, 4700 River Road Unit 84, Riverdale, MD 20737-1234.

For questions concerning registration, contact Sue Gallagher at (301) 734-8877.

If you require special accommodations, such as a sign language interpreter, for the meeting, please indicate below:

Travel Information

If traveling to the metro area by air, Baltimore-Washington International (BWI) and Ronald Reagan National Airports are each located within a 1-hour drive from the USDA Center. Dulles International Airport is located within a 1½-hour drive from the USDA Center. Airport shuttle services are available via independent contracted service fleets. Check with your hotel desk for additional shuttle or taxi information, or phone Super Shuttle (servicing BWI, Ronald Reagan National, and Dulles International Airports) at (800) 258-3826 or (410) 859-0803, or Airport Connection (servicing BWI Airport) at (800) 284-6066 or (301) 352-2400.

The USDA Center is located less than 1 mile from the College Park-University of Maryland metro rail station (Green Line toward Greenbelt). Bus service is provided between the College Park-University of Maryland station and the USDA Center by both metro bus (F6 and R12 bus lines) and certain University of Maryland shuttle buses. The fee for the metro bus is $1.10. The University of Maryland shuttle bus is free.

If traveling by car, please note that a fee of $2 is required to enter the parking lot at the USDA Center. The machine takes $1 bills or quarters.

Travel directions and information are available via the Internet at Animal Care's homepage at http://www.aphis.usda.gov/ac.

Security Procedures

Upon entering the building, visitors should inform security personnel that they are attending the Animal Care public meeting. Identification is required. Security personnel will direct visitors to the registration tables located outside the conference center on the first floor. Registration is necessary for all participants, including those registered in advance. Visitor badges must be worn throughout the day.

Lodging Information

We encourage out-of-town participants to make reservations as soon as possible due to potential peak volumes at local hotels at the time of the meeting. Rooms at all hotels are on a space available basis. The following hotels are located in the Riverdale area: Greenbelt Holiday Inn, 7200 Hanover Drive, Greenbelt, MD 20770, (800) 280-4188, (301) 982-7000.

A limited number of rooms have been reserved until February 21, 2000, at a rate of $84 plus tax at the Greenbelt Holiday Inn. You must identify yourself as a “USDA Animal Care” attendee when making reservations. Hotel shuttle service is available to and from the USDA Center. Make arrangements with the Holiday Inn front desk: College Park Holiday Inn, 10000 Baltimore Boulevard, College Park, MD 20740, (800) 465-4329, (301) 345-6700.

A limited number of rooms have been reserved until February 21, 2000, at a rate of $89 plus tax at the College Park Holiday Inn. You must identify yourself as an “Animal Care Public Meeting” or “ACP” attendee when making reservations. Hotel shuttle service is available to and from the USDA Center. Make arrangements with the Holiday Inn front desk: Greenbelt Courtyard-Marriott, 6301 Golden Triangle Drive, Greenbelt, MD 20770, (800) 321-2211, (301) 441-3311.

There are no special lodging rates offered at the Greenbelt Courtyard-Marriott, and no shuttle service is available to the USDA Center.

Please check with your travel agent for other hotel availability.

Authority: 7 U.S.C. 2131 et seq.

Done in Washington, DC, this 28th day of January 2000.
Bobby R. Acord,
Acting Administrator, Animal and Plant Health Inspection Service.

[FR Doc. 00-2383 Filed 2-2-00; 8:45 am]

BILLING CODE 3410-34-U